DEPARTMENT OF TRANSPORTATION

Federal Motor Carrier Safety Administration

49 CFR Parts 350, 390, 394, 395, and 398

[Docket No. FMCSA-97-2350]

RIN 2126-AA23

Hours of Service of Drivers; Driver Rest and Sleep for Safe Operations

AGENCY: Federal Motor Carrier Safety Administration (FMCSA), DOT.

ACTION: Proposed rule; roundtable meetings and extension of comment period.

SUMMARY: The FMCSA announces it is holding three public roundtables, each focusing on specific topics identified in the comment process on the proposed revisions to its hours-of-service (HOS) regulations. The format for the roundtables is two-day sessions designed to elicit in-depth discussion and exchange of supporting data. The FMCSA will invite representatives of stakeholders in the HOS rulemaking and other partners to sit at the roundtable. The public also is invited to attend and participate. The FMCSA considers the roundtable process as the next important step in gathering useful comment on its HOS proposal. A transcript of each roundtable will be placed in the rulemaking docket. To allow the public to review the transcripts, the public comment period for the rulemaking is extended until December 15, 2000.

DATES: The roundtables will be held on September 25-26; September 28-29, and October 5-6. They will begin at 8:30 a.m. and end at 5 p.m. Comments must be submitted no later than December 15, 2000.

ADDRESSES: The first roundtable will be held at the National 4-H Center, Chevy Chase, MD, and the others at the Marriott Wardman Park Hotel, Washington, DC. Comments should refer to the docket number at the top of this document and must be submitted to the Docket Clerk, U.S. DOT Dockets, Room PL-401, 400 Seventh Street SW., Washington, DC 20590-0001. Written comments may also be submitted electronically by using the submission form at http://dmes.dot.gov/submit/BlankDSS.asp.

FOR FURTHER INFORMATION CONTACT: For questions about the roundtable process, contact Mr. Stanley Hamilton, (202) 366-0665.

SUPPLEMENTARY INFORMATION:

Electronic Access

You can access this document and all comments received on Docket No. FMCSA-97-2350 by using the universal resource locator (URL): http://dms.dot.gov. It is available 24 hours each day, 365 days each year. Please follow the instructions online for more information and help. You also can find this document at the FMCSA's Motor Carrier Regulatory Information Service (MCREGIS) web site for notices at http://www.fmcsa.dot.gov/rulesregs/fmcsr/rulemakings.htm.

Accessibility Needs

If you need special accommodations, such as sign language interpretation, please contact Mr. Hamilton at least one week before the roundtable you are attending.

Structure of the Roundtable Dialogues

On April 24, 2000, the FMCSA issued a notice of proposed rulemaking (NPRM) to revise the HOS regulations (65 FR 25540, May 2, 2000). The preamble to the NPRM includes a comprehensive discussion of the history, background, and research leading to the current proposal. Between May 30 and July 7, eight public hearings were held at seven locations across the country. The format of these hearings was similar to those for most other “notice and comment” rulemakings: an open forum in which presiding federal officials heard oral presentations on the widest range of issues addressed in the NPRM from parties directly and indirectly affected by the proposal, including the general public. At the same time, over 40,000 comments have reached the public docket and are available on the internet for all interested persons to review.

When he announced the issuance of the NPRM, Secretary of Transportation Rodney E. Slater stressed that it was a proposal and that the FMCSA was actively seeking substantive public comment on the provisions. Because the issues involved in the HOS proposal are complex and contentious, the FMCSA wants to continue this process of public involvement and further enhance the quality of information it can derive from the comment period. However, the usual format of public hearings does not often allow decision makers to hear various viewpoints expressed in a detailed, substantive manner within the same proceeding or in dialogue with other, conflicting views. Accordingly, the FMCSA has designed a roundtable format to permit additional discussion among different stakeholders and agency representatives on a set of critical issues. The roundtables will continue and expand the FMCSA's commitment to fully explore all issues and concerns of stakeholders and the public through on-going dialogue.

Each of the three public roundtables is dedicated to specific agenda issues. These were determined by the FMCSA, based on the comments received to date, to be the critical issues that require further discussion and exchange of supporting documentation among all interested parties. The FMCSA expects that the dialogues at the roundtables will develop information useful as it continues the rulemaking process.

For each roundtable, a different roster of commenters and organizations that have provided important insight on the significant issues selected for that roundtable will be invited to form the roundtable. Each will be limited to no more than 22 members to encourage an interactive exchange of ideas and, most importantly, data on the issues under discussion. Organizations selected as participants are encouraged to designate individuals who will be able to explain the basis for their positions, provide the supporting rationale and documentation, and engage in a substantive exchange in responding to differing viewpoints. Because the roundtable format stresses presentation and exchange of data and documentation supporting particular positions on the issue, the roundtables are scheduled for Washington, DC, where many of the participants are located.

A moderator will open each roundtable and maintain a useful dialogue. The intent is to foster discussion among stakeholders and the public; the roundtables are not for the purpose of forming consensus on any issues. Members of the public are invited to attend and will have the opportunity to add to each dialogue. Each roundtable will have different members, and no organizations or individuals will be invited to more than one roundtable.

The goals of the FMCSA in holding the roundtables are to continue meaningful public involvement in the rulemaking process and further enhance the agency's understanding of the data and analysis supporting the various positions expressed on the issues involved in the NPRM.

Roundtable Assignments—Agenda Issues

Roundtable I Agenda Items

—Economic impacts of revising the current HOS rules;

—Fatigue Research;

—Enforcement.

Roundtable II Agenda Items

—Sleeper Berth requirements;

—Communications during rest periods;

—End of work-week rest periods;

—Hours of work permitted each day.

Roundtable III Agenda Items

—Categories of carrier operations;

—Electronic on-board recorder (EOBR) requirements;

—Allowable exemptions.

Participants to be Invited

The FMCSA will invite participants to the roundtables from organizations and groups, such as:

AAA, Advocates for Auto and Highway Safety, Amalgamated Transit Union, American Bakers Association, American Bus Association, American Insurance Association, American Moving & Storage Association, American Road and Transportation Builders Association, American Trucking Associations, Associated General Contractors of America

Brotherhood of Railroad Signalmen, Citizens for Reliable and Safe Highways, Commercial vehicle drivers, Commercial Vehicle Safety Alliance, Home heating oil representative, Insurance Institute for Highway Safety, International Brotherhood of Teamsters, Motor Freight Carriers Association, National Association of Governors' Highway Safety Representatives, National Industrial Transportation League

National Private Truck Council, National Ready Mixed Concrete Association, National Rural Electric Cooperative Association, National Sleep Foundation, National Safety Council, National Tank Truck Carriers, Owner-Operator Independent Drivers Association, Parents Against Tired Truckers, Petroleum Marketers Association of America

Small trucking company representatives, Snack Food Association, Transportation Trades Division, AFL-CIO, Truckload Carriers Association, United Motorcoach Association, VDO North America

Public Attendees

Public participation may be limited, based on the time constraints that result from a particular roundtable discussion.

Extension of the Public Comment Period

In order to allow the general public a further opportunity to participate in and comment on the roundtable dialogues, the comment period for the rulemaking has been extended until December 15, 2000. Detailed instructions for filing comments are provided in the NPRM.

Authority: 49 U.S.C. 322, 31502, and 31136; and 49 CFR 1.73.

Issued on: August 9, 2000.
Clyde J. Hart, Jr.,
Acting Deputy Administrator, Federal Motor Carrier Safety Administration.

[FR Doc. 00-20610 Filed 8-14-00; 8:45 am]

BILLING CODE 4910-22-D